DEPARTMENT OF COMMERCE

National Oceanic and Atmospheric Administration

U.S. Integrated Ocean Observing System (IOOS®) Advisory Committee

AGENCY: National Ocean Service, National Oceanic and Atmospheric Administration (NOAA), Department of Commerce.

ACTION: Notice of open meeting.

SUMMARY: Notice is hereby given of a meeting of the U.S. Integrated Ocean Observing System (IOOS®) Advisory Committee (Committee) at Stennis Space Center and Ocean Springs, Mississippi.

DATES AND TIMES: The meeting will be held on Tuesday, October 24, 2017, from 8:30 a.m. to 5:30 p.m., Wednesday, October 25, 2017 from 8:30 a.m.-5:30 p.m., and Thursday, October 25, 2017 from 8:30-2:45 p.m. These times and the agenda topics described below are subject to change. Refer to the Web page listed below for the most up-to-date agenda.

ADDRESSES: On Tuesday, October 24th and Thursday, October 26th, the meeting will be held in the Santa Rosa Room, Building #11111, John C. Stennis Space Center, MS 39529. On Wednesday, October 25th, the meeting will be held at Gulf Coast Research Laboratory, University of Southern Mississippi, 703 E Beach Dr., Ocean Springs, MS 39564. Venues may be subject to change. Refer to the Web page listed below for the most up-to-date information.

FOR FURTHER INFORMATION CONTACT: Carl C. Gouldman, Designated Federal Official, U.S. IOOS Advisory Committee, U.S. IOOS Program, 1315 East-West Highway, Station 2605, Silver Spring, MD 20910; Phone 240-533-9456; Fax 301-713-3281; Email carl.gouldman@noaa.gov or visit the U.S. IOOS Advisory Committee Web site at http://ioos.noaa.gov/community/u-s-ioos-advisory-committee/.

SUPPLEMENTARY INFORMATION: The Committee was established by the NOAA Administrator as directed by Section 12304 of the Integrated Coastal and Ocean Observation System Act, part of the Omnibus Public Land Management Act of 2009 (Pub. L. 111-11). The Committee advises the NOAA Administrator and the Interagency Ocean Observation Committee (IOOC) on matters related to the responsibilities and authorities set forth in section 12302 of the Integrated Coastal and Ocean Observation System Act of 2009 and other appropriate matters as the Under Secretary refers to the Committee for review and advice. The Committee will provide advice on:

(a) Administration, operation, management, and maintenance of the System;

(b) expansion and periodic modernization and upgrade of technology components of the System;

(c) identification of end-user communities, their needs for information provided by the System, and the System's effectiveness in dissemination information to end-user communities and to the general public; and

(d) any other purpose identified by the Under Secretary of Commerce for Oceans and Atmosphere or the Interagency Ocean Observation Committee.

The meeting will be open to public participation with a 15-minute public comment period on October 24, 2017, from 2:30 p.m. to 2:45 p.m., on October 25, 2017, from 4:00 p.m. to 4:15 p.m., and on October 26, 2017, from 2:30 p.m.-2:45 p.m. (check agenda on Web site to confirm time.) The Committee expects that public statements presented at its meetings will not be repetitive of previously submitted verbal or written statements. In general, each individual or group making a verbal presentation will be limited to a total time of three (3) minutes. Written comments should be received by the Designated Federal Official by October 20, 2017 to provide sufficient time for Committee review. Written comments received after October 20th, will be distributed to the Committee, but may not be reviewed prior to the meeting date. Seats will be available on a first-come, first-served basis. Pre-registration is required for those attending in person. Please send your name as it appears on driver's license and the organization/company affiliation you represent to Carl Gouldman. This information must be received by October 13, 2017. Additionally, a webinar will be provided. Sign-up information for the webinar will be posted on the Web site.

Matters To Be Considered: The meeting will focus on ongoing committee priorities, including discussions stakeholder needs specific to the Gulf Coast region and developing the next set of recommendations. The latest version of the agenda will be posted at http://ioos.noaa.gov/community/u-s-ioos-advisory-committee/.

Special Accomodations: These meetings are physically accessible to people with disabilities. Requests for sign language interpretation or other auxiliary aids should be directed to Carl C. Gouldman, Designated Federal Official at 240-533-9456 by October 13, 2017.

Dated: September 11, 2017.
Carl C. Gouldman,
Director, U.S. IOOS Program, National Ocean Service.

[FR Doc. 2017-20679 Filed 9-26-17; 8:45 am]

BILLING CODE 3510-22-P